SECURITIES AND EXCHANGE COMMISSION

[OMB Control No. 3235-0383]

Agency Information Collection Activities; Submission for OMB Review; Comment Request; Extension: Form F-7—Registration Statement

Upon Written Request, Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) has submitted to the Office of Management and Budget (“OMB”) this request for extension of the previously approved collection of information discussed below.

Form F-7 (17 CFR 239.37) is a registration statement under the Securities Act of 1933 (15 U.S.C. 77a et seq.) used to register securities that are offered for cash upon the exercise of rights granted to a registrant's existing security holders to purchase or subscribe such securities. The information collected is intended to ensure the adequacy of information available to investors in connection with securities offerings. The information required by Form F-7 is mandatory, and Form F-7 is publicly available on the Commission's Electronic Data Gathering, Analysis, and Retrieval (“EDGAR”) system. We estimate that Form F-7 is filed once per year by an average of 3 respondents annually. We estimate that Form F-7 has a burden of 1 hour per response for an estimated annual reporting burden of 3 hours (1 hour per response × 3 responses annually). We further estimate that Form F-7 has a cost burden of $1,800 per response for an estimated annual cost burden of $5,400 ($1,800 per response × 3 responses annually).

An agency may not conduct or sponsor, and a person is not required to respond to, a collection of information unless it displays a currently valid OMB Control Number.

The public may view and comment on this information collection request at: https://www.reginfo.gov/public/do/PRAViewICR?ref_nbr=202507-3235-009 or send an email comment to MBX.OMB.OIRA.SEC_desk_officer@omb.eop.gov within 30 days of the day after publication of this notice by December 19, 2025.

Dated: November 14, 2025.
Sherry R. Haywood,
Assistant Secretary.

[FR Doc. 2025-20178 Filed 11-17-25; 8:45 am]

BILLING CODE 8011-01-P